DEPARTMENT OF TRANSPORTATION

Coast Guard

33 CFR Part 117

[CGD08-02-036]

Drawbridge Operation Regulations; San Bernard River, Brazoria, Brazoria County, TX

AGENCY: Coast Guard, DOT.

ACTION: Notice of temporary deviation from regulations.

SUMMARY: The Commander, Eighth Coast Guard District, has issued a temporary deviation from the regulation governing the operation of the Union Pacific Railroad Swing Span Bridge across the San Bernard River, mile 20.7, at Brazoria, Brazoria County, TX. This deviation allows the bridge to remain closed to navigation from November 11, 2002, through November 14, 2002. The deviation is necessary to replace rail and signal components that affect the operation of the swing span.

DATES: This deviation is effective from 8 a.m. on November 11, 2002, until 8 p.m. on November 14, 2002.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The Bridge Administration Branch of the Eighth Coast Guard District maintains the public docket for this temporary deviation.

FOR FURTHER INFORMATION CONTACT: Phil Johnson, Bridge Administration Branch, telephone (504) 589-2965.

SUPPLEMENTARY INFORMATION: The Union Pacific Railroad has requested a temporary deviation in order to replace the hydraulic rail locking mechanism and signal components that affect the opening and closing of the swing span bridge across the San Bernard River at mile 20.7 near Brazoria, Brazoria County, Texas. This maintenance is essential for the continued operation of the bridge. This temporary deviation will allow the bridge to remain in the closed-to-navigation position from 8 a.m. on Monday, November 11, 2002, until 8 p.m. on Thursday, November 14, 2002.

The swing span bridge has a vertical clearance of 2 feet above high water in the closed-to-navigation position. Navigation on the waterway consists primarily of small recreational vessels and tugs with tows transporting petroleum products. The bridge normally opens to pass navigation on an average of 3 times per day. In accordance with 33 CFR 117.984, the draw of the bridge opens on signal; except that, from 10 a.m. to 2 p.m. and 10 p.m. to 2 a.m. the draw shall open on signal if at least three hours notice is given. Through the month of November, the San Bernard River, at the site of the bridge, is expected to remain at a stage at which as much as 17 feet of vertical clearance will be available while the swing span is in the closed-to-navigation position. Thus, average recreational vessels, as well as petroleum barges, can pass under the bridge during the closure period. The Union Pacific Railroad contacted Phillips Petroleum Company, principal user of the waterway, and advised them of the closure. Phillips Petroleum Company has made plans to shuttle barges under the bridge while it remains in the closed-to-navigation position. The bridge will not be able to open for emergencies during the closure period. No alternate routes are available.

In accordance with 33 CFR 117.35(c), this work will be performed with all due speed in order to return the bridge to normal operation as soon as possible. This deviation from the operating regulations is authorized under 33 CFR 117.35.

Dated: November 1, 2002.
Roy J. Casto,
Rear Admiral, Coast Guard, Commander, Eighth Coast Guard District.

[FR Doc. 02-28679 Filed 11-8-02; 8:45 am]

BILLING CODE 4910-15-P